DEPARTMENT OF ENERGY

[OE Docket No. PP-371]

Notice of Intent To Prepare an Environmental Impact Statement and Conduct Public Scoping Meetings, and Notice of Floodplains and Wetlands Involvement; Northern Pass Transmission LLC

AGENCY: Department of Energy (DOE).

ACTION: Notice of Intent to Prepare an Environmental Impact Statement (EIS) and Conduct Public Scoping Meetings; Notice of Floodplains and Wetlands Involvement.

SUMMARY: The Department of Energy (DOE) announces its intention to prepare an EIS pursuant to the National Environmental Policy Act (NEPA) of 1969 to assess the potential environmental impacts from its proposed Federal action of granting a Presidential permit to Northern Pass Transmission LLC (Northern Pass or Applicant) to construct, operate, maintain, and connect a new electric transmission line across the U.S.-Canada border in northern New Hampshire (NH). The EIS, Northern Pass Transmission Line Project Environmental Impact Statement (DOE/EIS-0463), will address potential environmental impacts from the proposed action and the range of reasonable alternatives. The U.S. Forest Service, White Mountain National Forest, and the Army Corps of Engineers, New England District, are cooperating agencies.

The EIS will provide the analysis to support a Forest Service decision on whether to issue a special use permit within the White Mountain National Forest. The Responsible Official for the Forest Service decision is the Forest Supervisor for the White Mountain National Forest.

The purpose of this Notice of Intent (NOI) is to inform the public about the proposed action, announce plans to conduct public scoping meetings in the vicinity of the proposed transmission line, and solicit public comments for consideration in establishing the scope of the EIS. Because the proposed project may involve actions in floodplains and wetlands, the draft EIS will include a floodplain and wetland assessment as appropriate, and the final EIS or Record of Decision will include a floodplain statement of findings.

DATES: The public scoping period starts with the publication of this Notice in the Federal Register and will continue until April 12, 2011. Written and oral comments will be given equal weight, and DOE will consider all comments e-mailed or postmarked by April 12, 2011 in defining the scope of this EIS. Comments e-mailed or postmarked after the close of the comment period will be considered to the extent practicable.

Locations, dates, and start and end times for the public scoping meetings are listed in the SUPPLEMENTARY INFORMATION section of this NOI.

Requests to speak at one or more public scoping meeting(s) should be received at the address indicated below by March 11, 2011; requests received by that date will be given priority in the speaking order. However, requests to speak also may be made at the scoping meetings.

ADDRESSES: Requests to speak at a public scoping meeting, comments on the scope of the EIS, and requests to be added to the document mailing list should be addressed to: Brian Mills, Office of Electricity Delivery and Energy Reliability (OE-20), U.S. Department of Energy, 1000 Independence Avenue, SW., Washington, DC 20585; by electronic mail to Brian.Mills@hq.doe.gov; or by facsimile to 202-586-8008. For general information on the DOE NEPA process contact: Ms. Carol M. Borgstrom, Director, Office of NEPA Policy and Compliance (GC-54), U.S. Department of Energy, 1000 Independence Avenue, SW., Washington, DC 20585; by electronic mail at askNEPA@hq.doe.gov; or by facsimile at 202-586-7031.

FOR FURTHER INFORMATION CONTACT: For information on DOE's proposed action, contact Brian Mills by one of the methods listed in ADDRESSES above, or at 202-586-8267. For general information on the DOE NEPA process, contact Ms. Carol M. Borgstrom by one of the methods listed in ADDRESSES above, or at 202-586-4600, or 800-472-2756. For information on the Forest Service role as a cooperating agency, contact Tiffany Benna by electronic mail at tbenna@fs.fed.us; by phone at 603-536-6241; by facsimile at 603-536-3685; or by mail at 71 White Mountain Drive, Campton, NH 03223. For information on the Army Corps of Engineers permit process, contact Erika Mark at 978-318-8250; by electronic mail at Erika.L.Mark@usace.army.mil; or by mail at 696 Virginia Road, Concord, MA 01742.

SUPPLEMENTARY INFORMATION: Executive Order (E.O.) 10485, as amended by E.O. 12038, requires that a Presidential permit be issued by DOE before electric transmission facilities may be constructed, operated, maintained, or connected at the U.S. international border. E.O. 10485 provides that a Presidential permit may be issued after a finding that the proposed project is consistent with the public interest and after favorable recommendations from the U.S. Departments of State and Defense. In determining consistency with the public interest, DOE considers the potential environmental impacts of the proposed project under NEPA, determines the project's impact on electric reliability (including whether the proposed project would adversely affect the operation of the U.S. electric power supply system under normal and contingency conditions), and considers any other factors that DOE may find relevant to the public interest. The regulations implementing E.O. 10485 have been codified at 10 CFR 205.320-205.329. DOE's issuance of a Presidential permit indicates that there is no Federal objection to the project, but does not mandate that the project be undertaken.

On October 14, 2010, Northern Pass applied to DOE pursuant to E.O. 10485, for a Presidential permit to construct, operate, maintain, and connect a high-voltage direct current (HVDC) transmission line across the U.S.-Canada border. The proposed HVDC transmission line would be capable of transmitting up to 1,200 megawatts (MW) of power in either direction, i.e., Canada to the U.S. and U.S. to Canada. The northern HVDC converter terminal is proposed to be constructed at the Des Cantons Substation in Québec, Canada, and would be connected to an HVDC line that would run southward in Québec for approximately 45 miles where it would cross the U.S.-Canada border into New Hampshire. The line would extend south from the international border approximately 140 miles to an HVDC converter terminal that would be constructed in the city of Franklin, NH. The terminal would convert the direct current to alternating current (AC) and allow the HVDC line to connect to a new approximately 40-mile AC line that Northern Pass proposes to construct between the Franklin converter station and the existing Deerfield Substation in the town of Deerfield, NH.

For the portion of the Project from the U.S.-Canada border to Franklin, NH, Northern Pass proposes to construct a single circuit ±300-kV HVDC above-ground transmission line mounted on structures ranging from approximately 90 feet to 135 feet tall. For the AC portion of the Project from Franklin to Deerfield, NH, Northern Pass proposes to construct a single circuit 345-kV AC above-ground transmission line mounted on structures ranging from approximately 80 feet to 135 feet tall.

After due consideration of the nature and extent of the proposed project, including evaluation of the “Information Regarding Potential Environmental Impacts” section of the Presidential permit application, DOE has determined that the appropriate level of NEPA review for this project is an EIS. DOE's proposed action is the granting of the Presidential permit for a transmission line to cross the international border. It is anticipated that the transmission line project could significantly affect the quality of the human environment.

Notice of Floodplain and Wetland Involvement: Because the proposed project may involve actions in floodplains and wetlands, in accordance with 10 CFR part 1022, Compliance with Floodplain and Wetland Environmental Review Requirements, as part of the analysis of impacts DOE will conduct field delineation of floodplains and wetlands along the preferred route and alternatives, using State and Federal protocols and consulting Federal Emergency Management Agency Flood Insurance Rate Maps. The EIS will include a floodplain and wetland assessment as appropriate, and the final EIS or record of decision will include a floodplain statement of findings.

The Forest Service proposed action is the issuance of a special use permit to Northern Pass to construct, operate, and maintain a new electric transmission line in the White Mountain National Forest. The EIS will identify any restrictions necessary to ensure the project is consistent with applicable Forest Plan.

Where the activity involves the discharge of dredged or fill material into waters of the United States, a permit from the Army Corps of Engineers is required pursuant to Section 404 of the Clean Water Act (33 U.S.C. 1344). Army Corps of Engineers regulations provide for concurrent decision making with States, and combining insofar as possible process and procedures, including public involvement procedures, leading to a permit decision. The Army Corps of Engineers General Regulatory Policies can be found at 33 CFR part 320.

DOE invites Tribal governments and Federal, State, and local agencies with jurisdiction by law or special expertise with respect to environmental issues to be cooperating agencies with respect to the EIS, as defined at 40 CFR part 1501.6. Cooperating agencies have certain responsibilities to support the NEPA process, as specified at 40 CFR part 1501.6(b). The Forest Service, White Mountain National Forest, and the Army Corps of Engineers, New England District, are cooperating agencies.

Northern Pass describes its preferred route for the Project in terms of three sections, the north, central and south section.

The north section would begin in NH at the U.S.-Canada border and run in a generally southerly direction through the town of Colebrook, to the Lost Nation Substation located in the vicinity of the town of Northumberland; it would require a new right-of-way (ROW). South of Lost Nation Substation, the line would utilize an existing ROW through the towns of Northumberland, Lancaster, and Whitefield to a point east of the town of Littleton and west of the town of Bethlehem.

The central section would run south from that point utilizing an existing ROW through the town of Sugar Hill and cross the White Mountain National Forest between the towns of Easton and North Woodstock. The line would cross the Appalachian Trail in the White Mountain National Forest utilizing an existing ROW. The line would continue south utilizing an existing ROW through the town of Thornton to the city of Franklin, where the southern converter terminal would be located.

The south section of the line would run southeast from the Franklin converter terminal to the Deerfield substation utilizing an existing ROW except near the city of Concord, where the line would run east of the city of Concord and require a new ROW for approximately 8 miles before returning to the existing ROW in the town of Pembroke, then utilizing this existing ROW to the Deerfield substation.

Northern Pass has identified several segment options to its preferred route. These segment options occur in the north, central and south sections of the proposed transmission line.

North Section Segment Options

Three optional segments have been identified for the north section. The first is 0.5 miles longer than the preferred route and is located east of the preferred route primarily near the town of Stratford. This segment option is approximately 10.2 miles long and deviates to the east around several mountains to limit its visibility from the Connecticut River Scenic Byway. This route would cross part of the Bunnell Working Forest, a protected conservation area.

The second segment option for the north section is approximately 8.6 miles long (1 mile longer than the preferred route). It would bypass the Cape Horn State Forest to the west and traverse the towns of Northumberland and Lancaster. This option would require a new ROW, would be more visible from the Connecticut River Scenic Byway, and would traverse the Potter Farm, a privately-owned conservation area.

The third segment option for the north section is approximately 21.1 miles long (1.8 miles longer than the preferred route) and would bypass the community of Whitefield, as well as an historic site and some conservation lands. This route would require a new ROW over the entire 21.1 mile length and be more visible from, and cross, the Connecticut River Scenic Byway.

Central Section Segment Options

Two segment options have been identified in the central section. The first winds around the White Mountain National Forest and is approximately 53 miles long. It is 13.3 miles longer than the preferred route, and it would require a new ROW. This route would cross the Appalachian Trail at a location that does not currently contain a transmission line crossing.

The second alternative segment in the central section leaves the existing ROW just north of Webster Lake and goes around the west side of the lake for 5.3 miles on a new ROW before rejoining the existing ROW south of the Webster Substation. This alternative is 0.1 mile longer than the preferred route and would be visible to residents around Webster Lake.

South Section Segment Options

Three segment options have been identified in the south section. The first segment option would leave the existing ROW north of Oak Hill Substation and require 5.2 miles of new ROW. This route is 0.5 mile shorter than the preferred route.

The second segment option in the south section would leave the existing ROW north of Oak Hill Substation and run in an easterly direction on 18.6 miles of new ROW until it connects to an existing distribution line ROW which would require expansion to transmission line ROW standards for approximately 9.7 miles. This route is 1.7 miles longer than the preferred route.

The third segment option in the south section would utilize the existing ROW for approximately 7.7 miles in the City of Concord and the Town of Pembroke, NH. It would require Federal Aviation Administration authorization for the location of the new transmission structures in the vicinity of Concord Municipal Airport.

The Northern Pass Presidential permit application, including associated maps and drawings, can be viewed or downloaded in its entirety from the project EIS Web site at http://www.northernpasseis.us. Also available at these same locations is the November 16, 2010, Federal Register Notice of Receipt of Application (75 FR 69990).

Agency Purpose and Need and Alternatives

The purpose and need for DOE's action is to decide whether to grant Northern Pass the subject Presidential permit.

Under the Action alternative, DOE would grant the Northern Pass application for a Presidential Permit for the proposed international electric transmission line.

Under the No Action alternative, DOE would deny the Northern Pass application for a Presidential Permit for the proposed international electric transmission line.

Identification of Environmental Issues

The EIS will evaluate potential environmental, social, cultural, and economic impacts in the U.S. from the construction and operation of the proposed new electric transmission line facilities. This notice is intended to inform agencies and the public of the proposed project, and to solicit comments and suggestions for consideration in the preparation of the EIS.

DOE intends to analyze impacts across a number of resource areas, including:

• Air quality (including climate change and greenhouse gas emissions).

• Water resources and drainage.

• Geography, geology, and soils.

• Land use.

• Threatened and endangered species, special status species, and related sensitive resources.

• Airspace utilization.

• Public health and safety.

• Noise.

• Natural hazards.

• Hazardous materials.

• Accidents and intentional destructive acts.

• Cultural and historical resources.

• Recreational resources.

• Visual resources.

• Socioeconomic impacts, community services and infrastructure.

• Environmental justice considerations (disproportionately high and adverse impacts to minority and low income populations).

• Cumulative impacts (past, present, and reasonably foreseeable future actions).

• Irreversible and irretrievable commitments of resources.

This list is not intended to be all inclusive or to imply any predetermination of impacts. DOE invites interested parties to suggest specific issues within these general categories, or other issues not included above, to be considered in the EIS.

Scoping Process

Interested parties are invited to participate in the scoping process, both to help define the environmental issues to be analyzed and to identify the range of reasonable alternatives. Both oral and written comments will be considered and given equal weight by DOE, regardless of how submitted. Written comments can be submitted either electronically or by paper copy; if the latter, consider using a delivery service because materials submitted by regular mail are subject to security screening, which both causes extended delay and potential damage to the contents. (Warped and unusable CD or DVD discs are common.) Additionally, comments can be submitted through the project Web site established for preparation of the EIS, at http://www.northernpasseis.us. This site will also serve as a repository for all public documents and the central location for announcements. Individuals may subscribe to the “mail list” feature on the project Web site in order to receive future announcements and news releases.

Public scoping meetings will be held at the locations, dates, and times as indicated below:

1. Pembroke NH, Pembroke Academy cafeteria, 209 Academy Road, Monday, March 14, 6-9 p.m.;

2. Franklin NH, Franklin Opera House, 316 Central street, Tuesday, March 15, 6-9 p.m.;

3. Lincoln NH, The Mountain Club on Loon, Hancock Room, 90 Loon Mountain Road, Wednesday, March 16, 6-9 p.m.;

4. Whitefield NH, Mountain View Grand Hotel and Resort, Presidential Room, 101 Mountain View Road, Thursday, March 17, 6-9 p.m.; and

5. Colebrook NH, Colebrook Elementary School, 27 Dumont Street, Saturday, March 19, 1-4 p.m.

The scoping meetings will be structured in two parts: first, an informal discussion “workshop” period that will not be recorded; and second, a formal commenting session, which will be transcribed by a court stenographer. The meetings will provide interested parties the opportunity to view proposed project exhibits and make comments. The Applicant, DOE, and any cooperating agency representatives will be available to answer questions and provide additional information to attendees to the extent that additional information is available at this early stage of the proceedings.

Persons submitting comments during the scoping process, whether orally or in writing, will receive either paper or electronic copies of the Draft EIS, according to their preference. Persons who do not wish to submit comments or suggestions at this time but who would like to receive a copy of the document for review and comment when it is issued should notify Brian Mills, as provided above, with their paper-or-electronic preference.

DOE will summarize all comments received in a “Scoping Report” that will be available on the project Web site and distributed either electronically to all parties of record for whom we have an e-mail address, or by mailing paper copies upon request.

EIS Preparation and Schedule

Following completion of the Scoping Report, DOE will prepare the Draft EIS, taking into consideration comments received during the scoping period.

DOE plans to issue the draft EIS by the end of November 2011. After DOE issues the draft EIS, the U.S. Environmental Protection Agency (EPA) will publish a notice of availability (NOA) of the draft EIS in the Federal Register, which will begin a minimum 45-day public comment period. DOE will announce how to comment on the draft EIS and will hold public hearings during the public comment period, but no sooner than 15 days after the notice of availability is published. In preparing the final EIS, DOE will respond to comments received on the draft EIS.

DOE plans to issue the final EIS by April 2012. No sooner than 30 days after the EPA publishes a NOA of the final EIS, DOE will issue its Record of Decision regarding its action considered in the EIS.

Dated: Issued in Washington, DC, on February 2, 2011.
Patricia A. Hoffman,
Assistant Secretary, Office of Electricity Delivery and Energy Reliability.

[FR Doc. 2011-3147 Filed 2-10-11; 8:45 am]

BILLING CODE 6450-01-P